DEPARTMENT OF TRANSPORTATION

Federal Aviation Administration

14 CFR Part 39

[Docket No. 2001-NM-62-AD]

RIN 2120-AA64

Airworthiness Directives; McDonnell Douglas Model MD-11 and -11F Airplanes

AGENCY: Federal Aviation Administration, DOT.

ACTION: Notice of proposed rulemaking (NPRM).

SUMMARY: This document proposes the supersedure of an existing airworthiness directive (AD), applicable to certain McDonnell Douglas Model MD-11 airplanes, that currently requires, among other actions, a one-time inspection to detect discrepancies at certain areas around the entry light connector of the sliding ceiling panel above the forward passenger doors; repair, if necessary; and installation or modification of a flapper door ramp deflector on the forward entry drop ceiling structure. That AD also currently requires an inspection of the wire assembly support installation above the entry door (L1) sliding panel for chafing, and repair, if necessary. This action also would continue to require the existing requirements and require replacing the wire support bracket with new support clip assemblies. This action is necessary to prevent chafing of electrical wire assemblies above the forward passenger doors and above the entry door (L1) sliding panel of the forward drop ceiling on the passenger compartment, which could result in electrical arcing, and consequent electrical fire in the passenger compartment. This action is intended to address the identified unsafe condition.

DATES: Comments must be received by October 15, 2002.

ADDRESSES: Submit comments in triplicate to the Federal Aviation Administration (FAA), Transport Airplane Directorate, ANM-114, Attention: Rules Docket No. 2001-NM-62-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-62-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington.

FOR FURTHER INFORMATION CONTACT: Technical Information: Brett Portwood, Aerospace Engineer, Systems and Equipment Branch, ANM-130L, FAA, Los Angeles Aircraft Certification Office, 3960 Paramount Boulevard, Lakewood, California 90712-4137; telephone (562) 627-5350; fax (562) 627-5210.

Other Information: Sandi Carli, Airworthiness Directive Technical Writer/Editor; telephone (425) 227-1120, fax (425) 227-1232. Questions or comments may also be sent via the Internet using the following address: sandi.carli@faa.gov. Questions or comments sent via the Internet as attached electronic files must be formatted in Microsoft Word 97 for Windows or ASCII text.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-62-AD.” The postcard will be date stamped and returned to the commenter.

Availability of NPRMs

Any person may obtain a copy of this NPRM by submitting a request to the FAA, Transport Airplane Directorate, ANM-114, Attention: Rules Docket No. 2001-NM-62-AD, 1601 Lind Avenue, SW., Renton, Washington 98055-4056.

Discussion

On November 22, 2000, the FAA issued airworthiness directive (AD) 2000-24-11, amendment 39-12018 (65 FR 75612, December 4, 2000), applicable to certain McDonnell Douglas Model MD-11 airplanes, to require a one-time inspection to detect discrepancies at certain areas around the entry light connector of the sliding ceiling panel above the forward passenger doors, and repair, if necessary. For certain airplanes, that AD also requires installation or modification of a flapper door ramp deflector on the forward entry drop ceiling structure. For certain other airplanes, that AD requires inspection of the wire assembly support installation for evidence of chafing, and corrective actions, if necessary. For certain airplanes, that AD also requires modification of a support bracket for the ramp deflector assembly. That action was prompted by the FAA's determination that further rulemaking action was necessary to address the identified unsafe condition. The requirements of that AD are intended to prevent chafing of electrical wire assemblies above the forward passenger doors, which could result in an electrical fire in the passenger compartment.

The incidents that prompted AD 2000-24-11 are not considered to be related to an accident that occurred off the coast of Nova Scotia involving a McDonnell Douglas Model MD-11 airplane. The cause of that accident is still under investigation.

Other Related Rulemaking

The FAA, in conjunction with Boeing and operators of Model MD-11 and -11F airplanes, is continuing to review all aspects of the service history of those airplanes to identify potential unsafe conditions and to take appropriate corrective actions. This proposed AD is one of a series of actions identified during that process. The process is continuing and the FAA may consider additional rulemaking actions as further results of the review become available.

Background

In the preamble of the notice of proposed rulemaking (NPRM) for AD 2000-03-10, amendment 39-11569 (64 FR 57811, October 27, 1999), which was superseded by AD 2000-24-11, the FAA indicated that the airplane manufacturer had advised us that modifying the wire assembly support installation above the entry door (L1) sliding panel in accordance with McDonnell Douglas Alert Service Bulletin MD11-24A068, Revision 01, dated March 8, 1999, may cause further damage of the wire assembly due to the possibility of the wire assembly chafing on adjacent brackets. The manufacturer also advised that it was planning to revise the service bulletin to alleviate the potential chafing problem.

As a result of this information, the FAA did NOT include the subject modification in the requirements of AD 2000-03-10.

Incidents Since Issuance of Previous Rule

Since the issuance of AD 2000-24-11, the FAA has received reports of chafing damage to the electrical wire bundle (wire assembly ABS9202) located above the entry door (L1) sliding panel of the forward drop ceiling of the passenger compartment. These incidents occurred on McDonnell Douglas Model MD-11 and MD-11F airplanes on which the modification specified in McDonnell Douglas Alert Service Bulletin MD11-24A068, Revision 01, dated March 8, 1999, has been accomplished in service and in production. The cause of the chafing has been attributed to the wire bundle coming in contact with an adjacent forward cabin entry work light connector due to decreased clearance caused by installation of a spacer per the referenced service bulletin.

Chafing of electrical wire assemblies above the forward passenger doors (as identified in AD 2000-24-11) and above the entry door (L1) sliding panel of the forward drop ceiling on the passenger compartment, if not corrected, could result in electrical arcing, and consequent electrical fire in the passenger compartment.

Explanation of Relevant Service Information

The FAA has reviewed and approved Boeing Alert Service Bulletin MD11-24A068, Revision 02, dated May 16, 2001. The service bulletin describes procedures for a general visual inspection of the wire assembly support installation above the entry door (L1) sliding panel for chafing per the service bulletin; and repair, if necessary. The service bulletin also describes procedures for replacing the wire support bracket with new support clip assemblies and ensuring adequate clearance exists for all parts of the wire assembly, including breakouts to module blocks and grounds. In addition, the effectivity listing of Revision 02 of the service bulletin removes certain airplanes and adds others, which are subject to the identified unsafe condition.

Accomplishment of the actions specified in Revision 02 of service bulletin is intended to adequately address chafing of electrical wire assemblies above the entry door (L1) sliding panel of the forward drop ceiling on the passenger compartment, which could result in electrical arcing, and consequent electrical fire in the passenger compartment.

Explanation of Requirements of Proposed Rule

Since an unsafe condition has been identified that is likely to exist or develop on other products of this same type design, the proposed AD would supersede AD 2000-24-11 to continue to require, among other actions, a one-time inspection to detect discrepancies at certain areas around the entry light connector of the sliding ceiling panel above the forward passenger doors; repair, if necessary; and installation or modification of a flapper door ramp deflector on the forward entry drop ceiling structure. The proposed AD also would require accomplishment of the actions specified in Boeing Alert Service Bulletin MD11-24A068, Revision 02, dated May 16, 2001, described previously.

Explanation of Change to Applicability

The applicability of this proposed AD references Boeing Alert Service Bulletin MD11-24A068, Revision 02, dated May 16, 2001, as one of the appropriate sources of service information for determining the affected Model MD-11 and -11F airplanes, rather than McDonnell Douglas Alert Service Bulletin MD11-24A068, Revision 01, dated March 8, 1999, as referenced in the applicability of AD 2000-24-11. As indicated above, Revision 02 includes additional airplanes that are subject to the requirements of this AD. Also, the applicability of this AD excludes airplanes listed in Boeing Alert Service Bulletin MD11-24A068, Revision 02, dated May 16, 2001, that have been modified from a passenger to a freighter configuration and have had the entry door (L1) sliding panel described in the service bulletin removed. In addition, we have revised the applicability of the existing AD to identify model designations as published in the most recent type certificate data sheet for the affected models.

Cost Impact

1. Actions Currently Required by AD 2000-24-11 and Retained in This AD.

There are approximately 110 airplanes of the affected design in the worldwide fleet that are affected by the actions currently required by AD 2000-24-11 and retained in this proposed AD. Of these 110 airplanes, the FAA estimates that 21 airplanes of U.S. registry would be affected by proposed AD.

The inspection to detect discrepancies around the entry light connector of the slide ceiling panel above the forward passenger doors takes approximately 2 work hours per airplane to accomplish, at an average labor rate of $60 per work hour. Based on these figures, the cost impact of this currently required inspection on U.S. operators is estimated to be $2,520, or $120 per airplane.

For Group 1 airplanes as specified in McDonnell Douglas Alert Service Bulletin MD11-25A194, Revision 06 (approximately 16 airplanes of U.S. registry), the installation of the flapper door ramp deflector takes approximately 8 work hours per airplane to accomplish, at an average labor rate of $60 per work hour. Required parts cost approximately $455 per airplane. Based on these figures, the cost impact of this currently required installation on U.S. operators of Group 1 airplanes is estimated to be $14,960, or $935 per airplane.

For Group 2 airplanes as specified in McDonnell Douglas Alert Service Bulletin MD11-25A194, Revision 06 (approximately 8 airplanes of U.S. registry), the installation of the flapper door ramp deflector takes approximately 8 work hours per airplane to accomplish, at an average labor rate of $60 per work hour. Required parts cost approximately $890 per airplane. Based on these figures, the cost impact of this currently required installation on U.S. operators of Group 2 airplanes is estimated to be $10,960, or $1,370 per airplane.

For airplanes listed in McDonnell Douglas Alert Service Bulletin MD11-24A068, Revision 01, dated March 8, 1999 (approximately 21 airplanes of U.S. registry), the inspection of the wire assembly support installation takes approximately 1 work hour per airplane to accomplish, at an average labor rate of $60 per work hour. Based on these figures, the cost impact of this currently required inspection on U.S. operators is estimated to be $1,260, or $60 per airplane.

For airplanes in Groups 1 and 3 as specified in McDonnell Douglas Alert Service Bulletin MD11-25A194, Revision 06 (approximately 18 airplanes of U.S. registry), the modification takes approximately 2 work hours per airplane to accomplish, at an average labor rate of $60 per work hour. Based on these figures, the cost impact of this currently required modification on U.S. operators is estimated to be $2,160, or $120 per airplane.

2. New Actions Proposed by This AD.

There are approximately 195 Model MD-11 and -11F airplanes of the affected design in the worldwide fleet that are affected by the actions required by this proposed AD. Of these 195 airplanes, the FAA estimates that 64 airplanes of U.S. registry would be affected by this proposed AD.

The new actions that are proposed in this AD action would take approximately 3 work hours per airplane to accomplish, at an average labor rate of $60 per work hour. Required parts would cost approximately $294 per airplane. Based on these figures, the cost impact of the newly proposed requirements of this AD on U.S. operators is estimated to be $30,336, or $474 per airplane.

3. Cost Estimate Calculation Information.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12018 (65 FR 75612, December 4, 2000), and by adding a new airworthiness directive (AD), to read as follows:

McDonnell Douglas: Docket 2001-NM-62-AD. Supersedes AD 2000-24-11, Amendment 39-12018.

Applicability: The following airplanes listed in Table 1 of this AD, certificated in any category:

Table 1.—Applicability
Model | As listed in— | Excluding Airplanes—
MD-11 and MD-11F airplanes | McDonnell Douglas Alert Service Bulletin MD11-24A194, Revision 06, dated January 27, 2000 | [reserved]
MD-11 and MD-11F airplanes | Boeing Alert Service Bulletin MD11-24A068, Revision 02, dated May 16, 2001 | Modified from a passenger to a freighter configuration on which the entry door (L1) sliding panel described in Boeing Alert Service Bulletin MD11-24A068, Service Revision 02, dated May 16, 2001, has been removed.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To prevent chafing of electrical wire assemblies above the forward passenger doors and above the entry door (L1) sliding panel of the forward drop ceiling on the passenger compartment, which could result in electrical arcing, and consequent electrical fire in the passenger compartment, accomplish the following:

Restatement of the Requirements of AD 2000-24-11

Detailed Visual Inspection

(a) For airplanes listed in McDonnell Douglas Alert Service Bulletins MD11-25A194, Revision 05, dated June 21, 1999; and MD11-24A068, Revision 01, dated March 8, 1999: Within 10 days after December 28, 1998 (the effective date of AD 98-25-11 R1, amendment 39-10988), perform a detailed visual inspection of the aircraft wiring to detect discrepancies that include but are not limited to frayed, chafed, or nicked wires and wire insulation in the areas specified in paragraphs (a)(1) and (a)(2) of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) At the area of the forward drop ceiling just outboard of mod block S3-735, and forward and inboard of the light ballast for the entry light on the sliding ceiling panel above the forward left passenger door (1L) at station location x = 24.75, y = 435, and z = 64.5.

(2) At the area above the forward right passenger door (1R) at station location x = -30, y = 430, and z = 70 in the ramp deflector assembly part number 4223570-501.

Corrective Action

(b) If any discrepancy is detected during the visual inspection required by paragraph (a) of this AD, prior to further flight, repair in accordance with Chapter 20, Standard Wiring Practices of the MD-11 Wiring Diagram Manual, dated January 1, 1998, or April 1, 1998.

Inspection, Installation, and Modification

(c) For airplanes listed in McDonnell Douglas Alert Service Bulletin MD11-25A194, Revision 05, dated June 21, 1999; or MD11-24A068, Revision 01, dated March 8, 1999: Within 6 months after March 23, 2000 (the effective date of AD 2000-03-10, amendment 39-11569), accomplish the actions specified in paragraphs (c)(1), (c)(2), (c)(3), and (c)(4) of this AD, as applicable.

(1) For Group 1 airplanes listed in McDonnell Douglas Alert Service Bulletin MD11-25A194, Revision 05, dated June 21, 1999: Install a ramp deflector assembly on the right side forward entry drop ceiling structure in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

(2) For Group 2 airplanes listed in McDonnell Douglas Alert Service Bulletin MD11-25A194, Revision 05, dated June 21, 1999: Install a ramp deflector assembly on the right side forward entry drop ceiling structure in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

Note 3: Installation of a ramp deflector assembly in accordance with McDonnell Douglas Service Bulletin MD11-25-194, dated March 15, 1996; Revision 01, dated May 1, 1996; Revision 02, dated July 12, 1996; Revision 03, dated December 12, 1996; or Revision 04, dated March 8, 1999, is acceptable for compliance with the requirements of paragraph (c)(2) of this AD.

(3) For Group 3 airplanes listed in McDonnell Douglas Alert Service Bulletin MD11-25A194, Revision 05, dated June 21, 1999: Modify the previously installed ramp deflector assembly bracket in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

(4) For airplanes listed in McDonnell Douglas Alert Service Bulletin MD11-24A068, Revision 01, dated March 8, 1999: Perform a general visual inspection of the wire assembly support installation for evidence of chafing, in accordance with the service bulletin. If any chafing is detected, prior to further flight, repair or replace any discrepant part with a new part in accordance with the service bulletin.

Note 4: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

One-Time Inspection

(d) For airplanes other than those identified in paragraph (a) of this AD: Within 10 days after January 8, 2001 (the effective date of AD 2000-24-11, amendment 39-12018), perform a detailed visual inspection of the aircraft wiring to detect discrepancies that include but are not limited to frayed, chafed, or nicked wires and wire insulation in the areas specified in paragraphs (a)(1) and (a)(2) of this AD. If any discrepancy is found, prior to further flight, repair in accordance with the requirements of paragraph (b) of this AD.

Note 5: Accomplishment of the inspection required by paragraph (a) of AD 98-25-11 R1, amendment 39-10988, prior to the effective date of this AD, is acceptable for compliance with paragraph (d) of this AD.

Modification

(e) For airplanes listed in Group 3 of McDonnell Douglas Alert Service Bulletin MD11-25A194, Revision 06, dated January 27, 2000: Within 6 months after January 8, 2001, modify the ramp deflector assembly support bracket on the right side forward entry door drop ceiling structure, in accordance with McDonnell Douglas Alert Service Bulletin MD11-25A194, Revision 06, dated January 27, 2000.

New Actions Required by This AD

Inspection, Corrective Action, if Necessary, and Replacement

(f) For airplanes listed in Groups 1 and 2 in Boeing Alert Service Bulletin MD11-24A068, Revision 02, dated May 16, 2001: Within 6 months after the effective date of this AD, do the actions specified in paragraphs (f)(1) and (f)(2) of this AD.

(1) Do a general visual inspection of the wire assembly support installation above the entry door (L1) sliding panel of the forward drop ceiling of the passenger compartment for chafing per the service bulletin. If any chafing is found, before further flight, repair per the service bulletin.

(2) Replace the wire support bracket with new support clip assemblies and ensure adequate clearance exists for all parts of the wire assembly, including breakouts to module blacks and grounds, per the service bulletin.

Alternative Methods of Compliance

(g) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 6: Information concerning the existence of approved alternative methods of compliance with this AD, if any, may be obtained from the Los Angeles ACO.

Special Flight Permits

(h) Special flight permits may be issued in accordance with sections 21.197 and 21.199 of the Federal Aviation Regulations (14 CFR 21.197 and 21.199) to operate the airplane to a location where the requirements of this AD can be accomplished.

Issued in Renton, Washington, on August 20, 2002.
Vi L. Lipski,
Manager, Transport Airplane Directorate, Aircraft Certification Service.

[FR Doc. 02-22005 Filed 8-28-02; 8:45 am]

BILLING CODE 4910-13-P